DEPARTMENT OF HEALTH AND HUMAN SERVICES

Centers for Disease Control and Prevention

[60Day-04-JK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects, to obtain a copy of the data collection plans and instruments, or to send comments, contact Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Cardiovascular Health Branch (CVHB), Management Information System (MIS)—New—National Center for Chronic Disease Prevention and Health Promotion (NCCDPHP), Centers for Disease Control and Prevention (CDC)

The Cardiovascular Health Branch Management Information System will collect in electronic format: (a) Data needed to measure progress by State Heart Disease and Stroke Prevention Programs toward, or achievement of, program performance measures, and (b) information on State Heart Disease and Stroke Prevention Programs that is currently being reported in hard copy.

In 1998, the U.S. Congress provided funding for the Centers for Disease Control and Prevention (CDC) to initiate a national, state-based heart disease and stroke prevention program. CDC's strategic plan is to implement a comprehensive national heart disease and stroke prevention program that supports state-based programs in all states and territories. In 2003 under Program Announcement 02045, CDC's Cardiovascular Health Branch funded 32 states and the District of Columbia to address heart disease and stroke selected through a competitive peer review process, and managed as CDC cooperative agreements. Awards are made for five years and may be renewed through a continuation application. This program is authorized under sections 301(a) and 317b(k)(2) of the Public Health Service (PHS) Act, [42 U.S.C. sections 241(a) and 247b(k)(2)], as amended.

All funded programs are required to submit continuation applications and semi-annual progress reports consistent with federal requirements that all agencies, in response to the Government Performance and Results Act of 1993, prepare performance plans and collect program-specific performance measures.

An Internet-based management information system (MIS) will allow CDC to monitor, and report on state Heart Disease and Stroke Prevention Programs more efficiently. Data reported to CDC through the MIS will be used by CDC to identify training and technical assistance needs, monitor compliance with cooperative agreement requirements, evaluate progress made in achieving program-specific goals, and obtain information needed to respond to Congressional and other inquiries regarding program activities and effectiveness. There are no costs to respondents.

Annualized Burden Table:
Respondents | Number of respondents | Number of responses per respondent | Average burden per respondent (in hours) | Total burden hours
States and Washington, DC | 33 | 2 | 6 | 396
Totals | 33 |  |  | 396

Dated: June 29, 2004.
Alvin Hall,
Director, Management Analysis and Services Office, Centers for Disease Control and Prevention.

[FR Doc. 04-15385 Filed 7-6-04; 8:45 am]

BILLING CODE 4163-18-P